FEDERAL ELECTION COMMISSION

Sunshine Act Meeting

Special Executive Session

Date and Time: Thursday, July 3, 2003 at 10 a.m.

Place: 999 E Street, NW., Washington, DC.

Status: This meeting was closed to the public pursuant to 11 CFR 2.4(b)(1).

Date and Time: Tuesday, July 8, 2003 at 10 a.m.

Place: 999 E Street, NW., Washington, DC.

Status: This meeting will be closed to the public.

Items to be Discussed: Compliance matters pursuant to 2 U.S.C. 437g.

Audits conducted pursuant to 2 U.S.C. 437g, 438(b), and Title 26, U.S.C.

Matters concerning participation in civil actions or proceedings or arbitration.

Internal personnel rules and procedures or matters affecting a particular.

Date and Time: Thursday, July 10, 2003 at 10 a.m.

Place: 999 E Street, NW., Washington, DC (ninth floor).

Status: This meeting will be open to the public.

Items to be Discussed: Correction and Approval of Minutes.

Draft Advisory Opinion 2003-12: Stop Taxpayer Money for Politicians Committee (“STMP”) and Representative Jeff Flake of Arizona by counsel, Benjamin L. Ginsberg.

Draft Advisory Opinion 2003-17: James W. Treffinger and Treffinger for Senate Committee by counsel, Karin Riecker.

Routine Administrative Matters.

Person to Contact for Information: Mr. Ron Harris, Press Officer, Telephone: (202) 694-1220.

Mary W. Dove,
Secretary of the Commission.

[FR Doc. 03-17026 Filed 7-1-03; 10:46 am]

BILLING CODE 6715-01-M